DEPARTMENT OF COMMERCE

Office of the Secretary

Strengthening America's Communities Advisory Committee

AGENCY: Office of the Secretary, Department of Commerce.

ACTION: Notice of open meeting.

SUMMARY: The Strengthening America's Communities Advisory Committee (the “Committee”) will hold its second public meeting on Friday, May 13, 2005 in Kansas City, Missouri. At this meeting, the Committee will discuss policy issues relating to the President's Strengthening America's Communities Initiative (the “Initiative”). During the Committee's first meeting in Fresno, California on April 15, 2005, the Committee received its charge to undertake a high-level examination of key policy issues pertaining to the Initiative. The second meeting will feature preliminary presentations to and deliberation by the Committee of work by the Committee's subcommittees on the policy issues presented to them.

DATES: Friday, May 13, 2005; beginning at approximately 8:30 a.m. (c.s.t.) and ending at approximately 12 p.m. (c.s.t.).

ADDRESSES: The meeting will take place at the Ewing Marion Kauffman Foundation Conference Center, 4801 Rockhill Road, Kansas City, Missouri 64110.

FOR FURTHER INFORMATION CONTACT: Mr. Robert E. Olson, Designated Federal Officer of the Committee, Economic Development Administration, Department of Commerce, Room 7015, 1401 Constitution Avenue, NW., Washington, DC 20230; telephone (202) 482-4495; facsimile (202) 482-2838; e-mail: saci@eda.doc.gov. Please note that any correspondence sent by regular mail may be substantially delayed or suspended in delivery, since all regular mail sent to the Department of Commerce (the “Department”) is subject to extensive security screening. For information about the Initiative, please visit the Department's Web site at http://www.commerce.gov/SACI/index.htm.

SUPPLEMENTARY INFORMATION: The meeting will be open to the public and seating will be available, but may be limited. Reservations are not accepted. Requests for sign language interpretation and other auxiliary aids must be transmitted by facsimile or e-mail to the contact person listed above no later than May 5, 2005.

The prospective agenda for the Committee meeting is as follows:

(1) Presentation of expert witnesses selected by the Committee;

(2) Presentation and deliberation of subcommittee reports to the Committee; and

(3) Public comment.

Members of the public will have the opportunity to present oral comments to the Committee at this meeting. The Committee values most those public comments that bear upon issues under direct examination by the Committee, rather than issues unrelated to the Committee's current scope of discussion. Members of the public may also submit written statements to the contact person listed above at any time before or after the meeting. However, to facilitate distribution of written statements to Committee members, the Committee suggests that written statements be submitted to the Designated Federal Officer listed above by facsimile or e-mail no later than May 5, 2005.

This agenda is subject to change. A more detailed agenda (including details on the public comment portion of the meeting) will be posted on the Department's Web site at http://www.commerce.gov/SACI/index.htm, and a final agenda will be made available to the public the morning of the Committee meeting.

Dated: April 22, 2005.
David Bearden,
Deputy Assistant Secretary of Commerce for Economic Development.

[FR Doc. 05-8445 Filed 4-26-05; 8:45 am]

BILLING CODE 3510-24-P